DEPARTMENT OF THE INTERIOR

Bureau of Mines

30 CFR Chapter VI

Removal of CFR Chapter

Effective April 26, 1996, the Bureau of Mines was terminated by Public Law 104-99, 110 Stat. 32. Therefore, the Office of the Federal Register is removing the Bureau of Mines regulations pursuant to its authority to maintain an orderly system of codification under 44 U.S.C. 1510 and 1 CFR part 8.

Accordingly, 30 CFR is amended by removing parts 601-652 and vacating Chapter VI.

[FR Doc. 02-55512 Filed 5-7-02; 8:45 am]

BILLING CODE 1505-01-D